DEPARTMENT OF HEALTH AND HUMAN SERVICES

National Institutes of Health

National Heart, Lung, and Blood Institute; Amended Notice of Meeting

Notice is hereby given of a change in the meeting of the NHLBI, Mentored Clinical and Basic Science Review Committee, Westin Crystal City, 1800 Jefferson Davis Highway, Arlington, VA 22202 which was published in the Federal Register on February 25, 2019, 6019.

This notice is being amended due to hotel location change from Westin Crystal City, Westin Crystal City, 1800 Jefferson Davis Highway, Arlington, VA 22202 to Crowne Plaza National Airport, 1480 Crystal Drive, Arlington, VA 22202. The meeting is closed to the public.

Dated: May 24, 2019.
Ronald J. Livingston, Jr.,
Program Analyst, Office of Federal Advisory Committee Policy.

[FR Doc. 2019-11334 Filed 5-30-19; 8:45 am]

BILLING CODE 4140-01-P